DEPARTMENT OF TRANSPORTATION

Federal Aviation Administration

14 CFR Part 97

[Docket No. 30795; Amdt. No. 3436]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 8, 2011. The compliance date for each SIAP, associated Takeoff Minimums, and ODP is specified in the amendatory provisions.

The incorporation by reference of certain publications listed in the regulations is approved by the Director of the Federal Register as of August 8, 2011.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on July 22, 2011.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 25 Aug 2011

Eufaula, AL, Weedon Field, RNAV (GPS) RWY 18, Amdt 1

Eufaula, AL, Weedon Field, RNAV (GPS) RWY 36, Amdt 1

Eufaula, AL, Weedon Field, Takeoff Minimums & Obstacle DP, Amdt 1

Gadsden, AL, Northeast Alabama Rgnl, ILS OR LOC/DME RWY 24, Orig

Gadsden, AL, Northeast Alabama Rgnl, RNAV (GPS) RWY 6, Amdt 1

Gadsden, AL, Northeast Alabama Rgnl, RNAV (GPS) RWY 18, Amdt 1

Gadsden, AL, Northeast Alabama Rgnl, RNAV (GPS) RWY 24, Amdt 1

Gadsden, AL, Northeast Alabama Rgnl, RNAV (GPS) RWY 36, Amdt 1

Show Low, AZ, Show Low Rgnl, RNAV (GPS) RWY 24, Amdt 2

St Johns, AZ, St Johns Industrial Air Park, RNAV (GPS) RWY 14, Amdt 1

Alturas, CA, Alturas Muni, RNAV (GPS) RWY 31, Amdt 1

Burbank, CA, Bob Hope, RNAV (GPS) X RWY 8, Orig-D

Burbank, CA, Bob Hope, RNAV (RNP) Y RWY 8, Orig

Burbank, CA, Bob Hope, RNAV (RNP) Z RWY 8, Amdt 1

Carlsbad, CA, McClellan-Palomar, ILS OR LOC/DME RWY 24, Amdt 9

Carlsbad, CA, McClellan-Palomar, RNAV (RNP) Z RWY 24, Orig

Carlsbad, CA, McClellan-Palomar, VOR-A, Amdt 8

Long Beach, CA, Long Beach/Daugherty Field, RNAV (GPS) Z RWY 30, Amdt 2

Long Beach, CA, Long Beach/Daugherty Field, RNAV (RNP) RWY 12, Amdt 1

Long Beach, CA, Long Beach/Daugherty Field, RNAV (RNP) Y RWY 30, Amdt 1

Los Angeles, CA, Los Angeles Intl, RNAV (RNP) Z RWY 24L, Amdt 1A

Merced, CA, Merced Rgnl/Macready Field, GPS RWY 12, Orig-D, CANCELLED

Merced, CA, Merced Rgnl/Macready Field, RNAV (GPS) RWY 12, Orig

Oakdale, CA, Oakdale, RNAV (GPS) RWY 10, Amdt 1

Oakdale, CA, Oakdale, RNAV (GPS) RWY 28, Amdt 1

Oakdale, CA, Oakdale, VOR-A, Orig-B

Palmdale, CA, Palmdale Rgnl/USAF Plant 42, ILS OR LOC RWY 25, Amdt 9

Palmdale, CA, Palmdale Rgnl/USAF Plant 42, RNAV (GPS) RWY 25, Amdt 1

Petaluma, CA, Petaluma Muni, GPS RWY 29, Orig, CANCELLED

Petaluma, CA, Petaluma Muni, RNAV (GPS) RWY 29, Orig

Rio Vista, CA, Rio Vista Muni, RNAV (GPS) RWY 25, Amdt 2

Santa Ana, CA, John Wayne Airport—Orange County, RNAV (GPS) Y RWY 19R, Amdt 1B

Santa Ana, CA, John Wayne Airport—Orange County, RNAV (RNP) Z RWY 19R, Orig

Willows, CA, Willows-Glenn County, GPS RWY 34, Orig, CANCELLED

Willows, CA, Willows-Glenn County, RNAV (GPS) RWY 34, Orig

Willimantic, CT, Windham, LOC RWY 27, Amdt 3, CANCELLED

Deland, FL, Deland Muni-Sidney H Taylor Field, VOR RWY 23, Amdt 3, CANCELLED

Deland, FL, Deland Muni-Sidney H Taylor Field, VOR/DME RWY 23, Orig

Fort Myers, FL, Page Field, GPS RWY 5, Orig, CANCELLED

Fort Myers, FL, Page Field, GPS RWY 23, Orig-A, CANCELLED

Fort Myers, FL, Page Field, GPS RWY 31, Orig-B, CANCELLED

Fort Myers, FL, Page Field, ILS OR LOC RWY 5, Amdt 7

Fort Myers, FL, Page Field, RNAV (GPS) RWY 5, Orig

Fort Myers, FL, Page Field, RNAV (GPS) RWY 13, Amdt 1

Fort Myers, FL, Page Field, RNAV (GPS) RWY 23, Orig

Fort Myers, FL, Page Field, RNAV (GPS) RWY 31, Orig

West Palm Beach, FL, North Palm Beach County General Aviation, GPS RWY 8R, Orig, CANCELLED

West Palm Beach, FL, North Palm Beach County General Aviation, ILS OR LOC RWY 8R, Amdt 1

West Palm Beach, FL, North Palm Beach County General Aviation, RNAV (GPS) RWY 8R, Orig

Canton, GA, Cherokee County, NDB RWY 5, Amdt 4

Canton, GA, Cherokee County, RNAV (GPS) RWY 5, Amdt 1

Canton, GA, Cherokee County, RNAV (GPS) RWY 23, Amdt 1

Canton, GA, Cherokee County, Takeoff Minimums and Obstacle DP, Amdt 2

Fitzgerald, GA, Fitzgerald Muni, NDB RWY 1, Orig-B

Fitzgerald, GA, Fitzgerald Muni, RNAV (GPS) RWY 1, Orig

Kailua/Kona, HI, Kona Intl at Keahole, ILS OR LOC/DME RWY 17, Amdt 2

Kailua/Kona, HI, Kona Intl at Keahole, LOC/DME BC RWY 35, Amdt 10

Kailua/Kona, HI, Kona Intl at Keahole, RNAV (GPS) Y RWY 17, Amdt 1

Kailua/Kona, HI, Kona Intl at Keahole, RNAV (GPS) Y RWY 35, Amdt 1

Kailua/Kona, HI, Kona Intl at Keahole, RNAV (GPS) Z RWY 35, Amdt 1

Kailua/Kona, HI, Kona Intl at Keahole, RNAV (RNP) Z RWY 17, Orig

Kailua/Kona, HI, Kona Intl at Keahole, VOR/DME OR TACAN RWY 17, Amdt 4, CANCELLED

Kailua/Kona, HI, Kona Intl at Keahole, VOR/DME OR TACAN RWY 17, Orig

Kailua/Kona, HI, Kona Intl at Keahole, VOR/DME OR TACAN RWY 35, Orig

Kailua/Kona, HI, Kona Intl at Keahole, VOR OR TACAN RWY 35, Amdt 7, CANCELLED

Kamuela, HI, Waimea-Kohala, RNAV (GPS) RWY 4, Amdt 1

Kamuela, HI, Waimea-Kohala, VOR/DME RWY 4, Amdt 1

Des Moines, IA, Des Moines, IA, ILS OR LOC RWY 31, ILS RWY 31 (CAT II), ILS RWY 31 (CAT III), Amdt 23

Bloomington, IN, Monroe County, Takeoff Minimums and Obstacle DP, Amdt 6

Lewisport, KY, Hancock Co—Ron Lewis Field, RNAV (GPS) RWY 5, Amdt 1

Lewisport, KY, Hancock Co—Ron Lewis Field, RNAV (GPS) RWY 23, Amdt 1

Great Barrington, MA, Walter J. Koladza, GPS RWY 11, Orig, CANCELLED

Great Barrington, MA, Walter J. Koladza, RNAV (GPS) RWY 11, Orig

Plymouth, MA, Plymouth Muni, ILS OR LOC/DME RWY 6, Amdt 1

Plymouth, MA, Plymouth Muni, RNAV (GPS) RWY 6, Amdt 1

Plymouth, MA, Plymouth Muni, RNAV (GPS) RWY 24, Orig

Cumberland, MD, Greater Cumberland Rgnl, LOC-A, Amdt 4

Cumberland, MD, Greater Cumberland Rgnl, LOC/DME RWY 23, Amdt 6

Cumberland, MD, Greater Cumberland Rgnl, RNAV (GPS) RWY 5, Amdt 1

Cumberland, MD, Greater Cumberland Rgnl, RNAV (GPS) RWY 23, Orig

Cumberland, MD, Greater Cumberland Rgnl, Takeoff Minimums and Obstacle DP, Amdt 6

Houlton, ME, Houlton Intl, GPS RWY 5, Orig, CANCELLED

Houlton, ME, Houlton Intl, GPS-A, Orig-A, CANCELLED

Houlton, ME, Houlton Intl, RNAV (GPS) RWY 5, Orig

Houlton, ME, Houlton Intl, RNAV-A, Orig

Houlton, ME, Houlton Intl, Takeoff Minimums and Obstacle DP, Amdt 2

Houlton, ME, Houlton Intl, VOR/DME RWY 5, Amdt 11

Cheboygan, MI, Cheboygan County, RNAV (GPS) RWY 10, Amdt 3

Detroit, MI, Willow Run, RNAV (GPS) RWY 23R, Amdt 1

Howell, MI, Livingston County Spencer J. Hardy, ILS OR LOC RWY 13, Amdt 1

Howell, MI, Livingston County Spencer J. Hardy, RNAV (GPS) RWY 13, Amdt 2

Howell, MI, Livingston County Spencer J. Hardy, RNAV (GPS) RWY 31, Amdt 1

Port Huron, MI, St Clair County Intl, NDB RWY 4, Amdt 4

Port Huron, MI, St Clair County Intl, RNAV (GPS) RWY 4, Orig

Port Huron, MI, St Clair County Intl, RNAV (GPS) RWY 22, Orig

Port Huron, MI, St Clair County Intl, VOR/DME-A, Amdt 8

Port Huron, MI, St Clair County Intl, VOR/DME RNAV OR GPS RWY 22, Amdt 2A, CANCELLED

South Haven, MI, South Haven Area Rgnl, RNAV (GPS) RWY 4, Amdt 1A

South Haven, MI, South Haven Area Rgnl, RNAV (GPS) RWY 22, Amdt 1A

Two Harbors, MN, Richard B Helgeson, RNAV (GPS) RWY 24, Orig-A

Cuba, MO, Cuba Muni, RNAV (GPS) RWY 36, Orig-A

Maryville, MO, Northwest Missouri Rgnl, RNAV (GPS) RWY 14, Amdt 1

Maryville, MO, Northwest Missouri Rgnl, RNAV (GPS) RWY 32, Amdt 1

Mexico, MO, Mexico Memorial, RNAV (GPS) RWY 6, Amdt 1

Neosho, MO, Neosho Hugh Robinson, RNAV (GPS) RWY 1, Amdt 1

Neosho, MO, Neosho Hugh Robinson, RNAV (GPS) RWY 19, Amdt 1

Potosi, MO, Washington County, RNAV (GPS) RWY 2, Amdt 2

Sikeston, MO, Sikeston Memorial Muni, RNAV (GPS) RWY 20, Amdt 1

St Louis, MO, Lambert-St Louis Intl, RNAV (GPS) RWY 6, Amdt 1

Bay St Louis, MS, Stennis Intl, ILS OR LOC RWY 18, Amdt 1

Bay St Louis, MS, Stennis Intl, RNAV (GPS) RWY 18, Amdt 1

Bay St Louis, MS, Stennis Intl, RNAV (GPS) RWY 36, Amdt 2

Pascagoula, MS, Trent Lott Intl, ILS OR LOC RWY 17, Amdt 2

Pascagoula, MS, Trent Lott Intl, RNAV (GPS) RWY 17, Amdt 1

Pascagoula, MS, Trent Lott Intl, Takeoff Minimums and Obstacle DP, Amdt 1

Goldsboro, NC, Wayne Executive Jetport, ILS OR LOC RWY 23, Amdt 2

Goldsboro, NC, Wayne Executive Jetport, RNAV (GPS) RWY 5, Amdt 1

Goldsboro, NC, Wayne Executive Jetport, RNAV (GPS) RWY 23, Amdt 1

Goldsboro, NC, Wayne Executive Jetport, VOR-A, Amdt 6

Hickory, NC, Hickory Rgnl, ILS OR LOC RWY 24, Amdt 8

Hickory, NC, Hickory Rgnl, RNAV (GPS) RWY 1, Amdt 1

Hickory, NC, Hickory Rgnl, RNAV (GPS) RWY 6, Amdt 1

Hickory, NC, Hickory Rgnl, RNAV (GPS) RWY 19, Amdt 1

Hickory, NC, Hickory Rgnl, RNAV (GPS) RWY 24, Amdt 1

Hickory, NC, Hickory Rgnl, Takeoff Minimums and Obstacle DP, Amdt 4

Lumberton, NC, Lumberton Muni, GPS RWY 5, Orig-A, CANCELLED

Lumberton, NC, Lumberton Muni, GPS RWY 13, Orig, CANCELLED

Lumberton, NC, Lumberton Muni, ILS OR LOC RWY 5, Amdt 1

Lumberton, NC, Lumberton Muni, RNAV (GPS) RWY 5, Orig

Lumberton, NC, Lumberton Muni, RNAV (GPS) RWY 13, Orig

Lumberton, NC, Lumberton Muni, RNAV (GPS) RWY 23, Orig

Lumberton, NC, Lumberton Muni, VOR RWY 5, Amdt 8B, CANCELLED

Lumberton, NC, Lumberton Muni, VOR RWY 13, Amdt 9B, CANCELLED

Shelby, NC, Shelby-Cleveland County Rgnl, RNAV (GPS) RWY 5, Amdt 2

Shelby, NC, Shelby-Cleveland County Rgnl, RNAV (GPS) RWY 23, Orig

Mount Holly, NJ, South Jersey Rgnl, GPS RWY 8, Orig-A, CANCELLED

Mount Holly, NJ, South Jersey Rgnl, RNAV (GPS) RWY 8, Orig

Mount Holly, NJ, South Jersey Rgnl, RNAV (GPS) RWY 26, Orig

Canandaigua, NY, Canandaigua, RNAV (GPS) RWY 13, Amdt 1

Canandaigua, NY, Canandaigua, RNAV (GPS) RWY 31, Orig

Farmingdale, NY, Republic, ILS OR LOC RWY 14, Amdt 8A

Farmingdale, NY, Republic, RNAV (GPS) RWY 1, Amdt 1

Farmingdale, NY, Republic, RNAV (GPS) RWY 19, Amdt 1

Farmingdale, NY, Republic, RNAV (GPS) Y RWY 14, Amdt 1

Farmingdale, NY, Republic, RNAV (RNP) Z RWY 14, Orig

Cleveland, OH, Burke Lakefront, ILS OR LOC RWY 24R, Amdt 1

Cleveland, OH, Burke Lakefront, NDB OR GPS RWY 24R, Amdt 1A, CANCELLED

Cleveland, OH, Burke Lakefront, RNAV (GPS) RWY 24R, Orig

Columbus, OH, Rickenbacker Intl, ILS OR LOC RWY 5L, Amdt 1

Columbus, OH, Rickenbacker Intl, ILS OR LOC RWY 5R, ILS RWY 5R (SA CAT I), ILS RWY 5R (CAT II), Amdt 3

Columbus, OH, Rickenbacker Intl, ILS OR LOC RWY 23L, Amdt 1

Columbus, OH, Rickenbacker Intl, NDB RWY 5R, Amdt 2

Columbus, OH, Rickenbacker Intl, NDB RWY 23L, Amdt 2

Columbus, OH, Rickenbacker Intl, RNAV (GPS) RWY 5L, Orig

Columbus, OH, Rickenbacker Intl, RNAV (GPS) RWY 5R, Amdt 1

Columbus, OH, Rickenbacker Intl, RNAV (GPS) RWY 23R, Orig

Galion, OH, Galion Muni, RNAV (GPS) RWY 5, Orig

Galion, OH, Galion Muni, RNAV (GPS) RWY 23, Orig

Galion, OH, Galion Muni, VOR RWY 23, Amdt 13

Galion, OH, Galion Muni, VOR/DME RNAV OR GPS RWY 5, Amdt 2, CANCELLED

Mount Vernon, OH, Knox County, RNAV (GPS) RWY 10, Amdt 1

Mount Vernon, OH, Knox County, RNAV (GPS) RWY 28, Amdt 1

Toledo, OH, Toledo Executive Airport, RNAV (GPS) RWY 4, Orig

Toledo, OH, Toledo Executive Airport, RNAV (GPS) RWY 32, Orig

Toledo, OH, Toledo Executive Airport, VOR RWY 4, Amdt 9C

Toledo, OH, Toledo Executive Airport, VOR/DME OR GPS RWY 4, Amdt 2A, CANCELLED

Clinton, OK, Clinton Rgnl, RNAV (GPS) RWY 17, Amdt 2

Clinton, OK, Clinton Rgnl, RNAV (GPS) RWY 35, Amdt 3

Oklahoma City, OK, Sundance Airpark, RNAV (GPS) RWY 17, Amdt 1

Oklahoma City, OK, Sundance Airpark, RNAV (GPS) RWY 35, Amdt 1

Oklahoma City, OK, Will Rogers World, ILS OR LOC RWY 17L, Amdt 2

Oklahoma City, OK, Will Rogers World, ILS OR LOC RWY 17R, Amdt 11

Oklahoma City, OK, Will Rogers World, ILS OR LOC RWY 35R, ILS RWY 35R (SA CAT I), ILS RWY 35R (CAT II), Amdt 9

Oklahoma City, OK, Will Rogers World, ILS OR LOC/DME RWY 35L, Amdt 1

Oklahoma City, OK, Will Rogers World, RADAR 1, Amdt 21

Oklahoma City, OK, Will Rogers World, RNAV (GPS) RWY 13, Amdt 2

Oklahoma City, OK, Will Rogers World, RNAV (GPS) RWY 31, Amdt 1

Oklahoma City, OK, Will Rogers World, RNAV (GPS) Y RWY 17L, Amdt 2

Oklahoma City, OK, Will Rogers World, RNAV (GPS) Y RWY 17R, Amdt 3

Oklahoma City, OK, Will Rogers World, RNAV (GPS) Y RWY 35L, Amdt 3

Oklahoma City, OK, Will Rogers World, RNAV (GPS) Y RWY 35R, Amdt 2

Oklahoma City, OK, Will Rogers World, RNAV (RNP) Z RWY 17L, Amdt 2

Oklahoma City, OK, Will Rogers World, RNAV (RNP) Z RWY 17R, Orig

Oklahoma City, OK, Will Rogers World, RNAV (RNP) Z RWY 35L, Orig

Oklahoma City, OK, Will Rogers World, RNAV (RNP) Z RWY 35R, Amdt 1

Allentown, PA, Allentown Queen City Muni, RNAV (GPS) RWY 7, Amdt 1

Allentown, PA, Allentown Queen City Muni, VOR-B, Amdt 8

Shamokin, PA, Northumberland County, GPS RWY 26, Orig-A, CANCELLED

Shamokin, PA, Northumberland County, RNAV (GPS) RWY 8, Orig

Shamokin, PA, Northumberland County, RNAV (GPS) RWY 26, Orig

Shamokin, PA, Northumberland County, VOR RWY 8, Amdt 3B

Williamsport, PA, Williamsport Rgnl, RNAV (GPS) RWY 9, Orig

Williamsport, PA, Williamsport Rgnl, RNAV (GPS) RWY 12, Orig

Williamsport, PA, Williamsport Rgnl, RNAV (GPS) RWY 30, Orig

Williamsport, PA, Williamsport Rgnl, Takeoff Minimums and Obstacle DP, Amdt 5

Charleston, SC, Charleston AFB/Intl, Takeoff Minimums and Obstacle DP, Amdt 7

Conway, SC, Conway-Horry County, Takeoff Minimums and Obstacle DP, Amdt 1A

Rock Hill, SC, Rock Hill/York Co/Bryant Field, RNAV (GPS) RWY 2, Amdt 1

Rock Hill, SC, Rock Hill/York Co/Bryant Field, RNAV (GPS) RWY 20, Amdt 1

Copperhill, TN, Martin Campbell Field, RNAV (GPS) RWY 2, Orig

Copperhill, TN, Martin Campbell Field, RNAV (GPS) RWY 20, Orig

Copperhill, TN, Martin Campbell Field, Takeoff Minimums and Obstacle DP, Orig

Dayton, TN, Mark Anton, NDB RWY 3, Amdt 2

Dayton, TN, Mark Anton, RNAV (GPS) RWY 3, Orig

Dayton, TN, Mark Anton, RNAV (GPS) RWY 21, Amdt 1

Dayton, TN, Mark Anton, Takeoff Minimums & Obstacle DP, Amdt 3

Lafayette, TN, Lafayette Muni, NDB RWY 19, Amdt 3, CANCELLED

Millington, TN, Charles W. Baker, GPS RWY 18, Orig-A, CANCELLED

Millington, TN, Charles W. Baker, GPS RWY 36, Orig-B, CANCELLED

Millington, TN, Charles W. Baker, RNAV (GPS) RWY 18, Orig

Millington, TN, Charles W. Baker, RNAV (GPS) RWY 36, Orig

Millington, TN, Charles W. Baker, Takeoff Minimums & Obstacle DP, Amdt 1

Millington, TN, Charles W. Baker, VOR/DME RWY 18, Amdt 2

Somerville, TN Fayette County, RNAV (GPS) RWY 1, Orig

Somerville, TN Fayette County, RNAV (GPS) RWY 19, Amdt 2

Tullahoma, TN, Tullahoma Rgnl Arpt/Wm Northern Field, RNAV (GPS) RWY 6, Amdt 1

Tullahoma, TN, Tullahoma Rgnl Arpt/Wm Northern Field, RNAV (GPS) RWY 18, Amdt 1

Tullahoma, TN, Tullahoma Rgnl Arpt/Wm Northern Field, RNAV (GPS) RWY 24, Amdt 1

Tullahoma, TN, Tullahoma Rgnl Arpt/Wm Northern Field, RNAV (GPS) RWY 36, Amdt 1

Tullahoma, TN, Tullahoma Rgnl Arpt/Wm Northern Field, Takeoff Minimums & Obstacle DP, Amdt 1

Union City, TN, Everett—Stewart Rgnl, RNAV (GPS) RWY 1, Amdt 1

Union City, TN, Everett—Stewart Rgnl, Takeoff Minimums and Obstacle DP, Amdt 1

Fort Worth, TX, Fort Worth Alliance, RNAV (GPS) RWY 34R, Amdt 2

Blanding, UT, Blanding Muni, RNAV (GPS) RWY 35, Amdt 2

Ogden, UT, Ogden-Hinckley, ILS OR LOC RWY 3, Amdt 4C

Price, UT, Carbon County Rgnl/Buck Davis Field, RNAV (GPS) RWY 36, Amdt 1

Salt Lake City, UT, Salt Lake City Intl, RNAV (GPS) RWY 35, Amdt 1

Norfolk, VA, Chesapeake Rgnl, ILS OR LOC RWY 5, Amdt 1

Norfolk, VA, Chesapeake Rgnl, RNAV (GPS) RWY 5, Amdt 1

Norfolk, VA, Chesapeake Rgnl, RNAV (GPS) RWY 23, Orig

Norfolk, VA, Chesapeake Rgnl, VOR/DME RWY 23, Amdt 1

Norfolk, VA, Norfolk Intl, ILS OR LOC RWY 5, Amdt 25

Norfolk, VA, Norfolk Intl, ILS OR LOC RWY 23, Amdt 7

Norfolk, VA, Norfolk Intl, RNAV (GPS) Z RWY 5, Amdt 1

Norfolk, VA, Norfolk Intl, RNAV (GPS) Z RWY 23, Amdt 1

Norfolk, VA, Norfolk Intl, RNAV (RNP) Y RWY 5, Orig

Norfolk, VA, Norfolk Intl, RNAV (RNP) Y RWY 23, Orig

Richlands, VA, Tazewell County, RNAV (GPS) RWY 7, Orig

Suffolk, VA, Suffolk Executive, LOC RWY 4, Amdt 3

Suffolk, VA, Suffolk Executive, RNAV (GPS) RWY 4, Amdt 2

Suffolk, VA, Suffolk Executive, RNAV (GPS) RWY 7, Amdt 1

Suffolk, VA, Suffolk Executive, RNAV (GPS) RWY 22, Orig

Suffolk, VA, Suffolk Executive, RNAV (GPS) RWY 25, Orig

Suffolk, VA, Suffolk Executive, Takeoff Minimums and Obstacle DP, Amdt 4

Yakima, WA, Yakima Air Terminal/McAllister Field, RNAV (GPS) W RWY 27, Amdt 1

Yakima, WA, Yakima Air Terminal/McAllister Field, RNAV (GPS) X RWY 27, Amdt 1

Yakima, WA, Yakima Air Terminal/McAllister Field, RNAV (RNP) Y RWY 9, Orig

Yakima, WA, Yakima Air Terminal/McAllister Field, RNAV (RNP) Y RWY 27, Orig

Yakima, WA, Yakima Air Terminal/McAllister Field, RNAV (RNP) Z RWY 9, Orig

Yakima, WA, Yakima Air Terminal/McAllister Field, RNAV (RNP) Z RWY 27, Orig

Buckhannon, WV, Upshur County Rgnl, RNAV (GPS) RWY 11, Amdt 2

Buckhannon, WV, Upshur County Rgnl, RNAV (GPS) RWY 29, Amdt 2

Williamson, WV, Mingo County Rgnl, Takeoff Minimums and Obstacle DP, Orig

[FR Doc. 2011-19495 Filed 8-5-11; 8:45 am]

BILLING CODE 4910-13-P